DEPARTMENT OF LABOR

Employment and Training Administration

[TA-W-55,348]

Ahearn & Soper Company, Inc., East Syracuse, NY; Notice of Termination of Investigation

Pursuant to Section 221 of the Trade Act of 1974, as amended, an investigation was initiated on July 20, 2004 in response to a worker petition filed by a State agency representative on behalf of workers at Ahearn & Soper Company, Inc., East Syracuse, New York.

The petition regarding the investigation has been deemed invalid. In order to establish a valid worker group, there must be at least three full-time workers employed at some point during the period under investigation. Workers of the group subject to this investigation did not meet the threshold of employment. Consequently the investigation has been terminated.

Signed at Washington, DC this 8th day of September 2004.
Elliott S. Kushner,
Certifying Officer, Division of Trade Adjustment Assistance.

[FR Doc. E4-2334 Filed 9-22-04; 8:45 am]

BILLING CODE 4510-30-P